GENERAL SERVICES ADMINISTRATION

[Notice-Notice-MK-2013-01; Docket No.2013-0002; Sequence 2]

The President's Management Advisory Board (PMAB); Notification of Upcoming Public Advisory Meeting

AGENCY: Office of Executive Councils, U.S. General Services Administration (GSA).

ACTION: Meeting Notice.

SUMMARY: The President's Management Advisory Board (PMAB), a Federal Advisory Committee established in accordance with the Federal Advisory Committee Act (FACA), 5 U.S.C., App., and Executive Order 13538, will hold a public teleconference meeting on Friday, February 22, 2013.

DATES: Effective date: February 12, 2013.

Meeting date: The meeting will be held on Friday, February 22, 2013, beginning at 11:00 a.m. eastern time, ending no later than 12:30 p.m.

FOR FURTHER INFORMATION CONTACT: Mr. Scott Winslow, Designated Federal Officer, President's Management Advisory Board, Office of Executive Councils, General Services Administration, 1776 G Street NW., Washington, DC 20006, at scott.winslow@gsa.gov.

SUPPLEMENTARY INFORMATION:

Background: The PMAB was established to provide independent advice and recommendations to the President and the President's Management Council on a wide range of issues related to the development of effective strategies for the implementation of best business practices to improve Federal Government management and operation.

Agenda: The main purpose for this meeting is for the PMAB to discuss the potential areas of work and focus for 2013. In addition, the PMAB will hear reports from federal agency executives detailing the progress being made in adopting and implementing the Board's previous recommendations on the following: Improving Strategic Sourcing; Curbing Improper Payments; improving Information Technology (IT) portfolio and project management; Senior Executive Service (SES) leadership development and SES performance appraisal systems. More detailed information on these PMAB recommendations can be found on the PMAB Web site (see below).

Meeting Access: The meeting is open to the public; interested members of the public may listen to the PMAB's discussion by calling 1-888-469-2978 and using passcode 90977. Members of the public will not have the opportunity to ask questions or otherwise participate in the teleconference. However, members of the public wishing to comment on the discussion or topics outlined in the Agenda should follow the steps detailed in Procedures for Providing Public Comments below.

Availability of Materials for the Meeting: Please see the PMAB Web site (http://www.whitehouse.gov/administration/advisory-boards/pmab) for any available materials and detailed meeting minutes after the meeting. Detailed meeting minutes will be posted within 90 days of the meeting.

Procedures for Providing Public Comments: In general, public statements will be posted on the PMAB Web site (see above). Non-electronic documents will be made available for public inspection and copying in PMAB offices at GSA, 1776 G Street NW., Washington, DC 20006, on official business days between the hours of 10 a.m. and 5 p.m. eastern time. You can make an appointment to inspect statements by telephoning 202-208-2387. All statements, including attachments and other supporting materials received, are part of the public record and subject to public disclosure. Any statements submitted in connection with the PMAB meeting will be made available to the public under the provisions of the Federal Advisory Committee Act.

The public is invited to submit written statements for this meeting until 12:30 p.m. eastern time on Thursday, February 21, 2013 by either of the following methods:

Electronic or Paper Statements: Submit electronic statements to Mr. Winslow, Designated Federal Officer at scott.winslow@gsa.gov; or send paper statements in triplicate to Mr. Winslow at the PMAB GSA address above.

Dated: February 7, 2013.
Stephen Brockelman,
Director, Office of Executive Councils, General Services Administration.

[FR Doc. 2013-03150 Filed 2-11-13; 8:45 am]

BILLING CODE 6820-BR-P